FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Balkans Air Corporation (NVO), 1703 Bath Avenue, Brooklyn, NY 11214. Officers: Begator Hila, President (QI), Skender Gashi, CEO. Application Type: New NVO License.

Encompass Global Logistics, LLC (NVO & OFF), 18881 Von Karmen Avenue, Suite 1450, Irvine, CA 92612. Officers: Asa Cheng, Manager (QI), Peter Li, Director. Application Type: Add OFF Service.

Ghanem Forwarding, LLC (NVO & OFF), 3327 Hollins Ferry Road, Halethorpe, MD 21227. Officer: Wael Ghanem, General Manager (QI). Application Type: Add NVO Service.

Motoni Global Investment Company, Incorporated dba Motoni Global Travel/Shipping (OFF), 4748 Lake Mirror Place, Forest Park, GA 30297. Officers: Olajide T. Oni, President (QI), Yetunde F. Ojo-Ayodele, Secretary. Application Type: New OFF License.

North Star Container, LLC dba NS World Logistics (NVO & OFF), 7400 Metro Boulevard, Suite 300, Edina, MN 55439. Officers: Shawn D. Steen, Assistant Vice President (QI), Guohe Mao, CEO. Application Type: Add OFF Service.

Omega's Five, Inc. (NVO & OFF), 4418 NW 74th Avenue, Miami, FL 33166. Officers: Amparo R. Murcia, Secretary (QI), Monica B. Merchan, President. Application Type: New NVO & OFF License.

Tosie, LLC (NVO & OFF), 6411 Ashcroft Drive, Suite C, Houston, TX 77081. Officers: Pius S. Tomdio, President (QI), Magdalene N. White, Managing Member. Application Type: New NVO & OFF License.

By the Commission.
Dated: November 2, 2012.
Karen V. Gregory,
Secretary.

[FR Doc. 2012-27253 Filed 11-6-12; 8:45 am]

BILLING CODE 6730-01-P